DEPARTMENT OF ENERGY

Federal Energy Regulatory Commission

Combined Notice of Filings #2

Take notice that the Commission received the following electric corporate filings:

Docket Numbers: EC12-143-000.

Applicants: Interstate Power and Light Company.

Description: Application of Interstate Power and Light Co. for transaction approval pursuant to Federal Power Act? 203.

Filed Date: 9/21/12.

Accession Number: 20120921-5096.

Comments Due: 5 p.m. ET 10/12/12.

Take notice that the Commission received the following electric rate filings:

Docket Numbers: ER10-2074-003; ER10-2097-005.

Applicants: Kansas City Power & Light Company, KCP&L Greater Missouri Operations Company.

Description: Notice of Change in Status of Kansas City Power & Light Company, et. al.

Filed Date: 9/21/12.

Accession Number: 20120921-5090.

Comments Due: 5 p.m. ET 10/12/12.

Docket Numbers: ER12-2154-000

Applicants: PacifiCorp.

Description: PacifiCorp submits tariff filing per: OATT Attachment N Deficiency Response to be effective N/A.

Filed Date: 9/21/12.

Accession Number: 20120921-5069.

Comments Due: 5 p.m. ET 10/12/12.

Docket Numbers: ER12-2667-000.

Applicants: Florida Power & Light Company.

Description: FPL Notice of Termination of Orlando Utilities Commission SA Nos. 307 and 308 to be effective 11/19/2012.

Filed Date: 9/20/12.

Accession Number: 20120920-5121.

Comments Due: 5 p.m. ET 10/11/12.

Docket Numbers: ER12-2670-000.

Applicants: Public Service Company of New Mexico.

Description: Public Service Company of New Mexico submits tariff filing per 35: Certificate of Concurrence-TEP and PNM rate schedule 321 to be effective 5/17/2011.

Filed Date: 9/21/12.

Accession Number: 20120921-5045.

Comments Due: 5 p.m. ET 10/12/12.

Docket Numbers: ER12-2671-000.

Applicants: PJM Interconnection, L.L.C.

Description: PJM Interconnection, L.L.C. submits tariff filing per 35.13(a)(2)(iii: RTEP clean-up filing re accepted language in ER12-2085 & ER12-2288 to be effective 9/19/2012.

Filed Date: 9/21/12.

Accession Number: 20120921-5057.

Comments Due: 5 p.m. ET 10/12/12.

Docket Numbers: ER12-2672-000.

Applicants: Sempra Energy Trading LLC.

Description: Sempra Energy Trading LLC submits Notice of Cancellation.

Filed Date: 9/21/12.

Accession Number: 20120921-5064.

Comments Due: 5 p.m. ET 10/12/12.

Docket Numbers: ER12-2673-000.

Applicants: PacifiCorp.

Description: PacifiCorp submits tariff filing per 35.13(a)(2)(iii: EWEB Non-Conforming Point to Point Agreement to be effective 9/11/2012.

Filed Date: 9/21/12.

Accession Number: 20120921-5065.

Comments Due: 5 p.m. ET 10/12/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 21, 2012.
Nathaniel J. Davis, Sr.,
Deputy Secretary.

[FR Doc. 2012-23945 Filed 9-28-12; 8:45 am]

BILLING CODE 6717-01-P